NATIONAL SCIENCE FOUNDATION

Request for Information on National Strategic Overview for Quantum Information Science

AGENCY: National Science Foundation.

ACTION: Notice of Request for Information; Correction.

SUMMARY: The National Science Foundation (NSF) published a document in the Federal Register of December 11, 2018, concerning a Request for Information on the National Strategic Overview for Quantum Information Science. There was a broken link in the notice.

Correction

In the Federal Register of December 11, 2018, in FR Doc. 2018-26754, on page 63685, in the third column, please correct the web link to read: https://www.surveymonkey.com/r/QIS-RFI_Responses.

FOR FURTHER INFORMATION CONTACT: C. Denise Caldwell at (703) 292-7371 or nsfscqis@nsf.gov. Individuals who use a telecommunications device for the deaf (TDD) may call the Federal Information Relay Service (FIRS) at 1-800-877-8339 between 8 a.m. and 8 p.m., Eastern time, Monday through Friday.

Dated: December 11, 2018.
Suzanne H. Plimpton,
Reports Clearance Officer, National Science Foundation.

[FR Doc. 2018-27151 Filed 12-13-18; 8:45 am]

BILLING CODE 7555-01-P